DEPARTMENT OF EDUCATION

Smaller Learning Communities Program

AGENCY: Office of Vocational and Adult Education, Department of Education.

ACTION: Notice of final priorities, requirements, definitions, and selection criteria.

SUMMARY: The Assistant Secretary for Vocational and Adult Education announces final priorities, requirements, definitions, and selection criteria for a special competition under the Smaller Learning Communities (SLC) program. The Assistant Secretary may use these priorities, requirements, definitions, and selection criteria for a special competition using a portion of fiscal year (FY) 2004 funds and also in future years. The priorities, requirements, definitions, and selection criteria announced in this notice will not be used for all FY SLC 2004 competitions. Projects funded using these priorities, requirements, definitions, and selection criteria will create and/or expand SLC activities as well as participate in a national research evaluation of supplemental reading programs. The Department will conduct another SLC competition later this year, awarding additional FY 2004 funds, for projects that will not participate in the national research evaluation. Requirements, priorities, definitions, and selection criteria for that competition were proposed in a notice in the Federal Register on February 25, 2005.

We announce these priorities, requirements, definitions, and selection criteria to focus Federal financial assistance on an identified national need for scientifically based data on supplemental reading programs for adolescents.

DATES: Effective Date: These final priorities, requirements, definitions, and selection criteria are effective April 29, 2005.

FOR FURTHER INFORMATION CONTACT: Matthew Fitzpatrick, U.S. Department of Education, 400 Maryland Avenue, SW., room 11120, Potomac Center Plaza, Washington, DC 20202-7120. Telephone: (202) 245-7809.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Background

Improving adolescent literacy is one of the major challenges facing high schools today. High school students must have strong literacy skills in order to acquire the knowledge and skills in English/language arts, mathematics, science, social studies, and other courses that they need in order to prepare for further learning, for careers, and for active participation in our democracy. Too many young people are now entering high school without these essential skills. At a time when they will soon enter high school, one-quarter of all eighth-grade students and more than 40 percent of those in urban schools scored below the basic level on the National Assessment of Education Progress (NAEP) assessment of reading in 2003. According to one estimate, at least one-third of entering ninth graders are at least two years behind grade level in their reading skills (Balfanz, et al., 2002). Many of these young people become discouraged and drop out before they reach the twelfth grade. Large numbers of those who do persist through their senior year leave high school nearly as unprepared for the future as when they entered it. Twenty-eight percent of twelfth-grade public school students scored below the basic level on the NAEP 2002 reading assessment. These students face a bleak future in an economy and society that demand more than ever before, higher levels of reading, writing, and oral communication skills.

Recognizing the importance of improving the literacy skills of America's children and youth, President Bush established, as key priorities, the implementation of scientifically based approaches to reading in the early grades and the development of new knowledge about how best to help adolescents read well.

One current initiative, the Adolescent Literacy Research Network, created by the Department's Office of Vocational and Adult Education (OVAE) and the Office of Special Education and Rehabilitative Services (OSERS) in collaboration with the National Institute of Child Health and Human Development (NICHD), supports six five-year experimental research projects. These projects are examining cognitive, perceptual, behavioral, and other mechanisms that influence the development of reading and writing abilities during adolescence, as well as the extent to which interventions may narrow or close literacy gaps for adolescents.

While these and other long-term, scientifically based research studies promise to provide a stronger foundation for designing more effective literacy interventions for adolescents, a number of noteworthy supplemental reading programs for adolescents are already available and have attracted great attention from high school leaders concerned about the literacy skills of their freshman students. High schools that have created freshman academy SLCs to ease the transition of ninth-grade students to high school are among those most interested in addressing the needs of ninth graders whose reading skills are significantly below grade level. Unfortunately, however, there is little or no scientifically based evidence that schools can consult to inform their decision-making regarding the selection and implementation of these reading programs.

To augment the research initiative of the Adolescent Literacy Research Network, the Department is now seeking to partner with local educational agencies (LEAs) in a national research evaluation that will examine the effectiveness of two supplemental reading programs that will be implemented within freshman academy SLCs. Section 5441(c)(2)(B) of the Elementary and Secondary Education Act of 1965, as amended by the No Child Left Behind Act of 2001 (ESEA), authorizes SLC funds to be used to “research, develop, and implement strategies for effective and innovative changes in curriculum and instruction, geared to challenging State academic content standards and State student academic achievement standards.” The Department announces in this notice priorities, requirements, definitions, and selection criteria for use in connection with a special competition under the SLC program that will provide a new opportunity for interested LEAs that are implementing freshman academy SLCs to partner with us to evaluate the effectiveness of two promising supplemental reading programs for ninth-grade students who are participating in freshman academies and whose reading skills are two to four years below grade level.

The Department's Institute of Education Sciences (IES) has awarded a contract to MDRC and the American Institutes of Research (AIR) to conduct this evaluation of supplemental reading programs. AIR solicited proposals from vendors of classroom-based supplemental reading programs seeking to participate in this initiative. When evaluating supplemental reading programs for this initiative, MDRC and AIR considered whether the vendors' supplemental reading programs were suitable for implementation within freshman academies, were research-based, and were designed to address all aspects of reading, from basic alphabetic skills to higher-level comprehension and writing. They also evaluated the extent to which the programs were designed to address issues of how to motivate adolescents to read. MDRC and AIR convened an independent panel of experts on adolescent literacy in January 2005 to evaluate the programs submitted for consideration. The panel focused its assessment on the extent to which a program incorporates the features judged by experts in the field to be indicative of a high-quality adolescent reading program and the extent to which there is research-based evidence of the program's effectiveness.

Based on the expert panel's recommendations, MDRC and AIR selected the two most promising programs for evaluation through this initiative. These programs are (1) Strategic Instruction Model, from the University of Kansas's Center for Research on Learning (http://www.kucrl.owg), and (2) Reading Apprenticeship Academic Literacy from the Strategic Literacy Initiative, from WestEd (http://www.wested.org/cs/we/view/pj/179). Both programs can be implemented to meet the needs of ninth-grade students who are reading two to four years below grade level. They both provide instruction in advanced decoding skills, vocabulary, comprehension, writing, and metacognition. Both give students opportunities to read a wide range of material and prepare them for work in other content areas.

Interested LEAs that are selected to participate in this initiative will implement the supplemental reading programs during the 2005-06 and 2006-07 school years in high schools that have established freshman academy SLCs. In an LEA that receives a grant on behalf of two large high schools, one of those high schools will be randomly assigned to implement one of the two reading programs; the other high school will implement the other program. Similarly, in an LEA that receives a grant on behalf of four large high schools, two of those schools will each be randomly assigned to implement one of the two reading programs and the remaining two high schools will be assigned a reading program in a manner that ensures that two high schools implement one program, and two implement the other. The programs will serve ninth-grade students in freshman academy SLCs whose reading skills are two to four years below grade level. Working with MDRC and AIR, each high school will select by lottery approximately 50 students from a pool of a minimum of 125 eligible ninth-grade students enrolled in a freshman academy to participate in the supplemental reading program; the remaining students will continue in their elective course, study hall, or other activity in which they would otherwise participate. The evaluators will work with each LEA and high school to assess the effectiveness of the supplemental reading program with two consecutive cohorts of ninth-grade students in 2005-6 and 2006-7. After the completion of the 2006-07 school year, participating high schools will have gained valuable data about the effectiveness of these supplemental reading programs in their schools. These data will help them to decide whether to expand the supplemental reading program to include all eligible students, to select and implement another supplemental reading program, or to implement no program at all.

The Department will award 60-month grants using the priorities, requirements, definitions, and selection criteria announced in this notice. In addition to supporting the other broader SLC activities at each participating high school, each grant will fully fund the costs of implementing the supplemental reading program, technical assistance from the program vendor, and the cost of participating in the evaluation.

The evaluation will provide researchers, policy-makers, school administrators, teachers, and parents throughout the United States with important information about these supplemental reading programs and adolescent literacy development, and answer three important questions:

(1) Do specific supplemental reading programs that support personalized and intensive instruction for striving ninth-grade readers significantly improve reading proficiency?

(2) What are the effects of supplemental reading programs on in-school outcomes such as attendance and course-taking behavior, and on longer-term outcomes such as student performance on State assessments in the tenth or eleventh grade?

(3) Which students benefit most from participation in the programs?

LEAs and participating high schools will benefit in a number of ways from partnering with the Department in this initiative. They will make an important contribution to improving our now-limited knowledge of how we can help most effectively at-risk young people who enter high school with limited literacy skills. They will receive grant funds to support the implementation of a promising supplemental reading program and high-quality professional development for the teachers who will provide instruction. After the second year of the grant, once the two-year period of supplemental reading program implementation has been completed, participating schools will be free to expand the program to include all eligible students or implement a new program, if they choose. Finally, the grant will also provide sufficient funds to support a broader SLC project that expands or creates new SLC structures and strategies in participating high schools. Those funds will be available for use throughout the 60-month grant period.

We published a notice of proposed priorities, requirements, definitions, and selection criteria for a special competition using a portion of FY 2004 funds and subsequent years funds (NPP) in the Federal Register on January 27, 2005 (70 FR 3910). This notice of final priorities, requirements, definitions, and selection criteria contains several significant changes from the NPP. We fully explain these changes in the Analysis of Comments and Changes section that follows.

Analysis of Comments and Changes

In response to our invitation in the NPP, 13 parties submitted comments. An analysis of the comments and of any changes in the priorities, requirements, definitions, or selection criteria since publication of the NPP follows.

Generally, we do not address technical and other minor changes—and suggested changes the law does not authorize us to make under the applicable statutory authority.

Comments: A number of commenters requested clarification about the definition of a supplemental reading program and requested more guidance about what activities would exclude LEAs from eligibility.

Discussion: In order to gauge the effectiveness of the comprehensive supplemental reading programs being studied, it is essential that students in the “control group” (i.e. students who do not participate in the supplemental reading program) not receive instruction that is or has been influenced by the presence of another supplemental reading program in their school that is similar to the programs being studied. Moreover, teachers who have received professional development in or who have previously participated in a similar supplemental reading program may, even unknowingly, incorporate elements unique to those supplemental reading programs into their regular English classes, and upset the integrity and reliability of the research study. We understand that most high schools provide some sort of extra help in reading for struggling readers in all grades and do not intend to exclude schools from participation in this study for that reason. For the purposes of this study, however, it is important that the extra help given to striving ninth-grade readers not be in the form of a comprehensive, year-long classroom-based supplemental reading program similar to the programs being evaluated through this study.

Changes: We have retained the requirement that LEAs cannot apply on behalf of schools if those schools have recently implemented a comprehensive supplemental reading program, but we have added a more precise definition for “supplemental reading program.” In addition, we have added to Priority 1 a requirement that LEAs that wish to apply on behalf of schools that have implemented other types of reading interventions must provide a detailed description of their past reading intervention activities. We will consider each school on a case-by-case basis and have modified the Foundation for Implementation of the Supplemental Reading Program selection criterion to reflect that we will consider the extent to which the applicant demonstrates an appropriate foundation for participation in the research study, without the presence of reading programs that might affect the outcomes of the study. We also have modified this criterion to reflect that we will consider whether the teachers have previously received professional development in a supplemental reading program.

Comments: A number of commenters sought clarification as to whether LEAs would be able to apply on behalf of schools that are currently carrying out activities funded through an SLC grant.

Discussion: The NPP stated that we would “accept applications from LEAs whether or not they are applying on behalf of schools that have previously received funding under the Federal SLC program.” We meant for this language to convey that LEAs may apply on behalf of schools currently receiving SLC funds, on behalf of schools that have never received funding, or on behalf of schools that received funding that has now expired.

Changes: We have revised the Eligibility section to clarify that we will accept applications from LEAs whether or not they are applying on behalf of schools that have previously received funding under the Federal SLC program or that are currently receiving funding under the Federal SLC program.

Comments: One commenter stated that the requirement that participating schools should have an active enrollment of at least 1,000 students is too restrictive.

Discussion: The SLC program serves large high schools. Consistent with language in the Conference Report for Consolidated Appropriations Act, 2004 (Pub. L. 108-199), the Department has decided that to be considered a large high school for purposes of this program, the school must enroll 1,000 or more students.

Changes: None.

Comments: One commenter stated that alternative high school programs that have an active enrollment of at least 1,000 students and meet all other eligibility requirements should be eligible to apply.

Discussion: LEAs are welcome to apply on behalf of any eligible high schools under their purview, provided that the schools satisfy the requirements we establish through this notice. A public alternative program would be considered a high school for the purposes of this special SLC competition if that program is recognized by a State educational agency as an independent high school.

Changes: None.

Comments: A number of commenters requested that schools be eligible to apply even if they have recently implemented a supplemental reading program, provided that they can offer evidence that the supplemental reading program formerly implemented in the school was ineffective.

Discussion: Ineffective reading programs might not fit the full definition of “supplemental reading programs” as defined elsewhere in this notice. Applicants should review this definition to determine if their previous reading program differs from the supplemental reading programs we describe. If their previous reading program would not be considered a supplemental reading program under the definition in this notice, then they may apply.

Changes: None.

Comments: Several commenters were concerned that so-called “vertical” SLCs (i.e., those SLCs which include students in grade nine, but also students in grades 10 through 12) were not clearly included in the definition of freshman academy.

Discussion: For the purposes of conducting a cohesive evaluation, we prefer to work with schools that are implementing fairly similar freshman SLCs in all of the schools participating in the study. That said, we balance this hope for a set of fairly homogenous SLC structures to be involved in the study against our need to secure a sufficient number of qualified applications. We also understand that other forms of SLCs might better meet the needs of students of different schools. Therefore, in our proposed definition of freshman academy, we stated that: “A freshman academy may include ninth-grade students exclusively or it may be part of an SLC, sometimes called a “house,” that groups together a small number of ninth-through twelfth-grade students for instruction by the same core group of academic teachers. The term freshman academy refers only to the ninth-grade students in the house.” We think that this language clearly conveys that schools with a sufficient number of striving ninth-grade readers who are enrolled in “vertical” SLCs are eligible to apply to participate in the study. For schools with vertical SLCs, we count the ninth-grade students in those SLCs as the “freshman academy.”

Changes: None.

Comments: One commenter asked that we add additional requirements to our definition of freshman academy, requiring schools to provide evidence that their freshman academy SLCs incorporate a number of qualities such as elements of autonomy, identity, and interdisciplinary teaching teams.

Discussion: We recognize that there are many opinions about how freshman academies should be organized. After careful analysis, we have selected a wide variety of unique and challenging requirements that applicants must meet in order to even be eligible to participate in this study. We feel that imposing additional requirements on schools could significantly hinder our ability to collect a sufficient number of applications, without which the entire study would be impossible.

Changes: None.

Comments: One commenter expressed concern that this initiative might send the message that reading instruction for striving readers is somehow limited to the ninth grade and suggested that we consider requiring schools to incorporate literacy interventions for all students in the school.

Discussion: An initiative to strengthen reading instruction for struggling ninth-grade readers should not be read as a statement that the Department believes that reading instruction in later grades is unimportant. Many students with low-level reading skills are unable to continue past the ninth grade and drop out before reaching further grades. As we stated in the NPP, one-quarter of all eighth-grade students and more than 40 percent of those in urban schools scored below the basic level on the National Assessment of Education Progress (NAEP) reading assessment in 2003. According to one estimate, at least one-third of entering ninth graders are at least two years behind grade level in their reading skills (Balfanz, et al., 2002).

Changes: None.

Comments: One commenter suggested that the proposed priority for districts applying on behalf of four schools puts rural districts at a disadvantage compared to their urban counterparts, and reduces the generalizability of any future research findings based on this study.

Discussion: We agree that the proposed priority may give larger LEAs, such as LEAs in urban areas and those in States that organize their school districts by county, an advantage in the competition, although this outcome is not the intent of the priority. As we explained in the NPP, maintaining the integrity of the random assignment process would be more challenging if we permitted a larger number of districts to participate in the study. Accordingly, while we agree that studying the implementation of the supplemental reading programs across a greater number of districts with a broad range of demographic conditions could possibly strengthen certain aspects of the research evaluation, we believe that the potential benefits from doing so are outweighed by the benefits of conducting this study in the most coherent manner possible, with a smaller number of districts.

Changes: None.

Comment: One commenter requested that we not require districts to apply on behalf of pairs of schools so that districts with just one school can apply.

Discussion: The design of the research study depends upon comparing the results of the implementation of supplemental reading programs across schools within a district. The pairing of schools permits us to study the comparative effectiveness of these programs, not just the effectiveness of each program in individual schools. In order to reduce the chance that we will exclude districts with only one school, we allow LEAs to join together and submit consortium applications on behalf of two or four schools, so long as those LEAs share a geographical border.

Changes: None.

Comments: One commenter felt that the proposed special competition would be an inefficient use of funding and that there is currently no need for more research in this area.

Discussion: As we noted in the NPP, there is little or no scientifically based research in this area.

Changes: None.

Comment: One commenter requested that we remove the stipulation in our definition of “striving ninth grade readers” that these students must be in the ninth grade “for the first time,” and pointed out that many students lacking basic literacy skills are unable to be promoted to the tenth grade.

Discussion: We agree, and note that removing this stipulation might allow more schools to be eligible to apply.

Change: We removed the words “for the first time” from our definition of “striving ninth-grade readers.”

Comment: One commenter suggested that we require written commitment from the teachers and school administrators directly involved with implementation of the supplemental reading program.

Discussion: We agree that requiring participating teachers and school administrators to provide written commitment that they will implement the supplemental reading programs in accordance with our requirements may help to promote faithful implementation of the supplemental reading program. In the NPP, we proposed to require LEAs to provide a letter committing to the requirements of the supplemental reading program, if the LEA did not require approval by a district research office or research board. We did not, however, propose to require a letter of commitment from the individual teachers responsible for implementing the supplemental reading program.

Changes: We have added a new requirement to Priority 1 for applicants to provide written commitments from the superintendent and the principal at each school on whose behalf the application is made, whether or not the district also requires approval from a research office or research board, that they will meet the requirements of the research design. We also added a requirement under Priority 1 for the full-time teacher implementing the supplemental reading program to provide a letter of interest and a resume. We also revised the selection criteria to highlight that we consider the experience of the teacher, as evidenced in part by his or her resume and letter of interest.

Comments: One commenter requested more information about the supplemental reading programs selected for the study and an assurance that the programs would be tailored to meet the needs of adolescent readers rather than being an extension of programs tailored for younger readers.

Discussion: The two supplemental reading programs selected for this study have been developed specifically for a high school audience.

Changes: None.

Comment: One commenter described the supplemental reading program being implemented in a potential applicant district and asked whether the research design for this study could allow for three groups of students—one group enrolled in the supplemental reading program we assign, one group enrolled in the district's current reading program, and one group as a “control group.”

Discussion: In order to make conclusions about the effectiveness of the two supplemental reading programs we are studying in this evaluation, we must study the implementation of these programs in at least 32 schools (16 schools per program). Studying the effectiveness of a third reading program would require an equal number of schools to implement that third program because studying a program in only one school would not produce enough data to assess its effectiveness. Moreover, elsewhere in this notice we prohibit applicants from implementing any supplemental reading program similar to the reading programs being studied.

Changes: None.

Comments: One commenter requested that preference be given to applications from so-called “unit” districts that do not include eighth-grade “feeder” schools.

Discussion: We appreciate the unique challenges faced by high school districts that play little role in the education of their students before the students enroll in their high school(s). The focus of this special competition, however, is to fund a national research evaluation of the supplemental reading programs at the ninth-grade level. So long as participating schools meet the unique requirements set forth in this notice, we do not believe that the administrative relationship between those schools and their feeder middle schools should influence the weight we give their applications.

Changes: None.

Comments: One commenter requested that we add a requirement for schools to implement a “Pre-Freshman” academy, in addition to the ninth-grade freshman academy, in order to foster better transitions with the eighth-grade feeder schools.

Discussion: We appreciate the importance of alignment and smooth transitions between eighth-grade and ninth-grade schooling experiences for students. That said, we have decided not to impose an additional requirement on applicants to implement a pre-freshman academy because we believe that imposing additional requirements on applicants could significantly hinder our ability to fund a sufficient number of applications, without which the entire study will be impossible. Moreover, participating schools may carry out activities to improve the transition from the eighth to the ninth grade as part of their broader SLC project, provided that their efforts do not disturb the faithful implementation of the supplemental reading programs being studied under the national research evaluation.

Changes: None.

Comment: One commenter expressed concern that random assignment by lottery of students into the supplemental reading programs would be too difficult to implement.

Discussion: We understand the difficulties related to implementing a complex research study such as the one we will conduct through this special competition. We will work with the contractors and reading program vendors to ensure that schools have proper support and guidance throughout the assignment process, including help with implementing the lottery and in obtaining parental consent.

Changes: We have made a few changes to Priority 1 and the Participation in the Research Evaluation requirement to clarify that applicants will work with the contractors to carry out certain aspects of the supplemental reading program's implementation, including implementation of the lottery, the administration of surveys and diagnostic assessments of the student's reading skills, and recruitment and analysis of student eligibility to participate in the program.

Comment: One commenter suggested we budget more funds to cover the salary and benefits of the teacher implementing the supplemental reading program.

Discussion: We agree that, under the language proposed in the NPP, we did not budget enough funds to cover the salary and benefits of the teacher implementing the supplemental reading program.

Changes: We have increased the amount of funds to be reserved for the supplemental reading program, from $230,000 to $250,000, and therefore increased the total maximum award amount to $1,250,000 per school. We now require that each school reserve $150,000 for implementation of the supplemental reading program during the 2005-06 school year and $100,000 for the implementation of the program during the 2006-07 school year. We have also added a requirement that each school set aside approximately $25,000 of these reserved supplemental reading program funds during the first year and $15,000 during the second year to cover materials and support provided by the supplemental reading program developers.

Comment: One commenter requested that learning disabled students not be excluded from the definition of “striving ninth-grade readers.”

Discussion: In drafting our definition of striving ninth-grade readers, we excluded learning-disabled students because we assumed that in most instances those students receive other intensive forms of supplemental instruction outside of the regular English/language arts classroom. However, we agree that if these students are not receiving any other forms of supplemental instruction, and they are two to four years behind grade level in their reading skills, they should be included within the definition of striving ninth-grade readers.

Changes: We have removed the language from the definition of striving ninth-grade readers that excluded students with learning disabilities, and have added language to the section entitled Eligibility to specify that students with learning disabilities may be included in the pool of eligible students if they are not receiving other forms of supplemental instruction and otherwise meet the definition of a striving ninth-grade reader.

Other Changes: Upon our internal review, we have made the following changes, in order to clarify some possibly confusing language in the NPP:

(1) In Priority 1, we have changed “recruit 125 or more students for the program” to “work with the LEA, school officials, MDRC, and AIR to recruit 125 or more students for the program”; we have changed “obtain parental consent” to “work with the LEA, school officials, MDRC, and AIR to obtain parental consent”; we have changed “Assign a language arts teacher” to “Assign a language arts or social studies teacher”; and we have added the language “Designate a substitute or replacement teacher in the event that the teacher of the supplemental reading program takes a leave of absence, resigns, or is otherwise unwilling or unable to participate.”

(2) In Priority 1, we have added a requirement that applicants must designate a substitute or replacement teacher in the event that the teacher of the supplemental reading program takes a leave of absence, resigns, or is otherwise unwilling or unable to participate. We state elsewhere in this notice that the LEA and participating high schools must provide a full-time teacher to provide instruction in the supplemental reading program for 225 minutes each week. This language did not leave room for the teacher to take a leave of absence or otherwise fail to provide all of the instruction for the program. By adding this requirement, we are clarifying that substitutes can be used in the event that the teacher is unwilling or unable to participate.

(3) In Priority 1, the section entitled Participation in the National Research Evaluation, and the Selection Criteria, we have changed the words “English/language arts teacher” to “English/language arts or social studies teacher.” The original language was meant to convey that the teacher implementing the supplemental reading program should teach a subject that incorporates literacy instruction. Social studies teachers fit that definition, and, therefore, should have been included.

(4) In the Eligibility section, we added language to clarify when educational service agencies are eligible to apply for a grant under this competition.

(5) In the section entitled Participation in the Research Evaluation, we have changed “The LEA must” to “The LEA and the participating high schools must”; and we have changed “a project coordinator who would participate in the professional development” to “a project coordinator who would be able to participate in the professional development.” We also have changed “The LEA must provide transcripts and State assessment data for the entire pool of eligible students for the 2005-6, 2006-7, 2007-8 and 2008-9 school years” to “The LEA must provide transcripts and State assessment data for the entire pool of eligible students for the 2004-5, 2005-6, 2006-7, 2007-8 and 2008-9 school years.” We have added “2004-2005” to the list of school years for which the LEA must provide the Department with transcripts and State assessment data because we state that we will consider data from the 2004-5 school year in other sections of the notice. Adding 2004-2005 to this section simply adds clarity and internal consistency within this notice.

(6) In the definition of Striving Ninth-Grade Readers, we have changed “who took the State's eighth-grade standardized assessment with minimal accommodations” to “who took the State's eighth-grade standardized reading or language arts assessment in English with minimal accommodations.”

(7) In the Selection Criteria, we removed paragraph (3) from the Need for Participation in the Supplemental Reading Program. This paragraph referred to the broader SLC project, not the supplemental reading program, and was needlessly confusing. The new criterion which has been added to the Quality of the Project Design of the Broader SLC Project addresses some of the same issues covered by the deleted criterion.

Note: This notice of final priorities, requirements, definitions, and selection criteria does not solicit applications. In any year in which we choose to use these priorities, requirements, definitions, and selection criteria, we invite applications through a notice in the Federal Register. When inviting applications we designate each priority as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the competitive preference priority (34 CFR 75.105(c)(2)(i)); or (2) selecting an application that meets the competitive preference priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Priorities

Priority 1—Participation in a National Research Evaluation That Assesses the Effectiveness of Supplemental Reading Programs in Freshman Academies

To be eligible for consideration under this priority, an applicant must—

(1) Apply on behalf of two or four large high schools that are currently implementing freshman academies;

(2) Provide a detailed description of literacy classes and/or other activities implemented within the last two years that were designed to promote the reading achievement of striving ninth-grade readers (as defined elsewhere in this notice) at any of the schools on behalf of which the LEA has applied;

(3) Provide documentation of the LEA's and schools' willingness to participate in a large-scale national evaluation that uses scientifically based research methods. Each LEA must include in its application a letter from its superintendent and the principals of the high schools named in the application, agreeing to meet the requirements of the research design, and each LEA must include in its application a letter from its research office or research board agreeing to meet the requirements of the research design, if such approval is needed according to local policies;

(4) Agree to implement two designated supplemental reading programs for striving ninth-grade readers, one in each eligible high school, adhering strictly to the design of the reading program, with the understanding that the supplemental reading program will be either the Strategic Instruction Model or Reading Apprenticeship Academic Literacy, as assigned to each school by the evaluation contractor;

(5) Assign a language arts or social studies teacher, providing his or her name, resume, and a signed letter of interest, in each participating high school to: (a) Participate in professional development necessary to implement the supplemental reading program (which will include travel to Washington, DC, or another off-site location during the first two weeks in August of 2005); (b) teach the selected supplemental reading program to participating students for a minimum of 225 minutes per week for each week of the 2005-2006 and 2006-07 school years; (c) complete two surveys; (d) assist with the administration of surveys and student assessments; (e) work with the LEA, school officials, MDRC, and AIR to recruit 125 or more students for the program and the larger research evaluation; (f) determine students' eligibility to participate in the research evaluation, with the guidance of the evaluation contractor; and (g) work with the LEA, school officials, MDRC, and AIR to obtain parental consent for students to participate in assessments and other data collections;

(6) Designate a substitute or replacement teacher in the event that the teacher of the supplemental reading program takes a leave of absence, resigns, or is otherwise unwilling or unable to participate; and

(7) Agree to provide, prior to the start of school years 2005-06 and 2006-07, for each participating high school, a list of at least 125 striving ninth-grade readers who are eligible to participate in the research evaluation; work with the contractor to assign by lottery 50 of those students in each participating high school to the supplemental reading program and assign the remaining students to other activities in which they would otherwise participate, such as a study hall, electives, or other activity that does not involve supplemental reading instruction; provide students selected for the supplemental reading program with a minimum of 225 minutes per week of instruction in the supplemental reading program for each week of the school year; and allow enough flexibility in the schedules of all eligible students so that students who are not initially selected by lottery to participate in the supplemental reading program may be reassigned, at random, to the program if students who were initially selected for the program transfer to another school, drop out, or otherwise discontinue their participation in supplemental reading instruction during the school year.

Priority 2—Number of Schools

The Secretary gives priority to applications from LEAs applying on behalf of four high schools that are implementing freshman academies and that commit to participate in the research evaluation.

Requirements

Application Requirements

The Assistant Secretary announces the following application requirements for this special SLC competition. These requirements are in addition to the content that all SLC grant applicants must include in their applications as required by the program statute under title V, part D, subpart 4, section 5441(b) of the ESEA. A discussion of each application requirement follows:

Eligibility

To be considered for funding, an applicant must be an LEA, including schools funded by the Bureau of Indian Affairs (BIA schools) and educational service agencies, that applies on behalf of two or four large high schools that have implemented, and continue to implement, at least one freshman academy SLC by no later than the 2004-2005 school year.

An educational service agency is only eligible if it can show in its application that the entity or entities with governing authority over the eligible high schools on whose behalf the educational service agency is applying supports the application.

LEAs must identify in their applications the names of the two or four large high schools proposed to participate in the research evaluation, the number of students currently enrolled in each school, disaggregated by grade level, and the number enrolled in freshman academies. We will not accept applications from LEAs on behalf of one, three, or more than four schools. We require that each school include grades 11 and 12 and have an enrollment of 1,000 or more students in grades 9 through 12.

Enrollment figures must be based upon data from the current school year or data from the most recently completed school year. We will not accept applications from LEAs applying on behalf of schools that are being constructed and do not have an active student enrollment at the time of application.

The LEA also must provide an assurance that each of the schools identified in its application: (1) Is implementing at least one freshman academy SLC during the 2004-05 school year; (2) will continue to implement at least one freshman academy SLC during the 2005-06 and 2006-07 school years; and (3) did not implement a classroom-based supplemental reading program, as defined elsewhere in this notice, for striving ninth-grade readers during the 2004-05 school year. For each school identified in the application, LEAs also must provide evidence that a minimum of 125 striving ninth-grade readers (as defined elsewhere in this notice) were enrolled at the school during each of the 2003-04 and 2004-05 school years. Students with learning disabilities may be included among the pool of striving ninth-grade readers if they do not receive other intensive supplemental literacy instruction outside of the regular English/language arts classroom, and otherwise meet the definition of striving ninth-grade readers stated elsewhere in this notice. We will accept applications from LEAs whether or not they are applying on behalf of schools that have previously received funding under the Federal SLC program or that are currently receiving funding under the Federal SLC program. Eligible schools would be those currently implementing freshman academy SLCs, though the freshman academies need not have been funded through a prior Federal SLC grant.

School Report Cards

We require that LEAs provide, for each of the schools included in the application, the most recent “report card” produced by the State or the LEA to inform the public about the characteristics of the school and its students, including information about student academic achievement and other student outcomes. These “report cards” must include, at a minimum, the following information that LEAs are required to report for each school under section 1111(h)(2)(B)(ii) of the ESEA: (1) Whether the school has been identified for school improvement; and (2) information that shows how the academic assessments and other indicators of adequate yearly progress compare to those of students in the LEA and the State, as well as performance of the school's students on the statewide assessment as a whole.

Consortium Applications and Governing Authority

In an effort to encourage systemic, LEA-level reform efforts, we permit an individual LEA to submit only one application on behalf of multiple schools. Accordingly, the LEA is required to specify in its application which high schools would participate.

In addition, we require that an LEA applying for a grant under this competition apply only on behalf of a high school or high schools for which it has governing authority, unless the LEA is an educational service agency applying in the manner described in the section in this notice entitled Educational Service Agencies. An LEA, however, may form a consortium with another LEA with which it shares a geographical border and submit a joint application for funds. In such an instance, the consortium must apply on behalf of either two or four high schools and follow the procedures for group applications described in 34 CFR 75.127 through 75.129 in the Education Department General Administrative Regulations (EDGAR). For example, an LEA that wishes to apply for a grant but only has one eligible high school may partner with a neighboring LEA, if the neighboring LEA has another eligible high school.

Educational Service Agencies

We permit an educational service agency to apply on behalf of eligible high schools only if the educational service agency includes in its application evidence that the entity or entities that have governing authority over each of the eligible high schools supports the application.

Budget Information for Determination of Award

LEAs may receive up to $1,250,000 per school during the 60-month project period. This is an increase from the maximum range of awards ($550,000 to $770,000) that we established in the previous SLC program competitions, plus an additional $250,000 to cover additional expenses related to participation in the research evaluation.

In its budget calculations, each school will reserve $150,000 for implementation of the supplemental reading program during the 2005-06 school year and $100,000 for the implementation of the program during the 2006-07 school year. Of this amount, approximately $25,000 must be reserved the first year, and $15,000 must be reserved the second year, to cover materials and support provided by the supplemental reading program developers. These funds will also support the salary and benefits of one full-time-equivalent teacher who will be responsible for providing the supplemental reading program instruction and performing administrative functions related to the conduct of the research evaluation, professional development, technical assistance provided by the program developer, and the purchase of curriculum materials and the technology necessary to deliver instruction. The remaining $1,000,000 will be available to support other activities related to the creation or expansion of SLCs in the school. For one application, LEAs may receive up to $5,000,000, if applying on behalf of four schools. Grants will support participation in the research evaluation over the first two years of the project period, and a broader SLC project, including such activities as extensive redesign and improvement efforts, professional development, or direct student services, over five years.

Applicants are required to provide detailed, yearly budget information for the total grant period requested. Understanding the unique complexities of implementing a program that affects a school's organization, physical design, curriculum, instruction, and preparation of teachers, we anticipate awarding the entire amount at the time of the initial award.

The actual size of awards will be based on a number of factors. These factors include the scope, quality, and comprehensiveness of the proposed program and the range of awards indicated in the application notice.

Student Placement within the Broader SLC Project

Applicants must include in their applications a description of how students will be selected or placed in the broader SLC project such that students will not be placed according to skills or any other measure, but will be placed at random or by student/parent choice and not pursuant to testing or other judgments.

Performance Indicators for the Broader SLC Project

We require applicants to identify in their applications specific performance indicators and annual performance objectives for these indicators and one core indicator. Specifically, we require applicants to use the following performance indicators to measure the progress of each school:

(1) The percentage of students who score at the proficient and advanced levels on the mathematics assessments used by the State to measure adequate yearly progress under part A of title I of the ESEA, as well as these percentages disaggregated by the following subgroups:

(A) Major racial and ethnic groups.

(B) Students with disabilities.

(C) Students with limited English proficiency.

(D) Economically disadvantaged students.

(2) At least two other appropriate indicators the LEA identifies, such as rates of average daily attendance, year-to-year retention, achievement and gains in English proficiency of limited English proficient students; incidence of school violence, drug and alcohol use, and disciplinary actions; or the percentage of students completing advanced placement courses or passing advanced placement tests.

Applicants must identify annual performance objectives for each indicator in their application.

Evaluation of Broader SLC Projects

We require each applicant to provide an assurance that it will support an evaluation of its broader SLC project that provides information to the project director and school personnel and that will be useful in gauging the project's progress and in identifying areas for improvement. Each evaluation must include an annual report for each of the five years of the project period and a final report to be completed at the end of the fifth year. We require grantees to submit each of these reports to the Department. We require that the evaluation be conducted by an independent third-party evaluator selected by the LEA whose role in the project is limited to conducting the evaluation.

Participation in the Research Evaluation

We require each applicant to provide an assurance that it and each participating high school will take several actions to assist in implementing the research evaluation, including:

(1) The LEA and the participating high schools must implement the supplemental reading program adhering strictly to the design of the program, including purchasing all necessary instructional materials, technology, professional development, and student materials in sufficient time for the program to be implemented at the start of the 2005-06 and 2006-07 school years and in sufficient quantity to serve approximately 50 students each year.

(2) The LEA and the participating high school(s) must agree to allow a contractor to use a lottery to assign randomly 50 of the expected 125 or more students determined to be eligible to participate in the supplemental reading class and the remainder to serve as non-participants.

(3) The LEA must provide a language arts or social studies teacher for each participating high school who will receive professional development in the supplemental reading program (five days during summer 2005 and at least two follow-up days during each of the 2005-2006 and 2006-2007 school years), assist the contractor in recruiting and determining the eligibility of students, and teach the supplemental reading program to the participating students for a minimum of 225 minutes per week for each week of the 2005-2006 and 2006-07 school years. This teacher is required to complete two brief surveys (at the beginning and end of the 2005-2006 and 2006-2007 school years) to provide information on his or her preparation, professional development, and experiences.

(4) The LEA must agree to work jointly with the contractor to administer a diagnostic group assessment of reading skills at the beginning and the end of the ninth-grade year to assess whether or not those students participating and not participating in the supplemental reading program have made gains in reading skills. This reading assessment might also need to be administered again at the end of the tenth-grade year.

(5) The LEA must provide transcripts and State assessment data for the entire pool of eligible students for the 2004-05, 2005-06, 2006-07, 2007-08, and 2008-09 school years, in a manner and to the extent consistent with the Family Educational Rights and Privacy Act (FERPA) (20 U.S.C. 1232g; 34 CFR part 99).

(6) The LEA must designate a project coordinator who will be eligible to participate in the professional development and serve as a resource and coordinator for teachers involved in the research study. This project coordinator must also work with the LEA's technology office (if necessary) and the curriculum developers to organize the purchase of computer equipment and software needed to implement the supplemental reading program. The project coordinator may not be the language arts or social studies teacher responsible for teaching the supplemental reading program.

(7) The LEA and participating high schools must allow enough flexibility in developing the participating students' daily schedules to accommodate the supplemental reading program, which can be implemented either in a 45-minute language arts period or through a larger period of 90 minutes, depending on the schools' scheduling.

(8) The LEA and participating high schools must allow the evaluation team to observe both the classrooms implementing the supplemental reading program and other English or language arts classrooms in the school.

High-Risk Status and Other Enforcement Mechanisms

Because the requirements listed in this notice are material requirements, failure to comply with any requirement or with any elements of the grantee's application will subject the grantee to administrative action, including but not limited to designation as a “high-risk” grantee, the imposition of special conditions, or termination of the grant. Circumstances that might cause the Department to take such action include, but are not limited to: The grantee's failure to implement the designated supplemental reading programs in a manner that adheres strictly to the design of the program; the grantee's failure to purchase all necessary instructional materials, technology, professional development, and student materials in sufficient time for the programs to be implemented at the start of the 2005-06 and 2006-07 school years; and the grantee's failure to adhere to any requirements or protocols established by the evaluator.

Definitions

In addition to the definitions in the authorizing statute and 34 CFR 77.1, the following definitions also apply to this special competition. We may apply these definitions in any year in which we run an SLC supplemental reading program competition.

Broader SLC Project means an SLC project at the site of the high school aside from, and in addition to, that high school's implementation of a supplemental reading program and participation in the research evaluation.

Freshman Academy means a form of SLC structure that groups ninth-grade students into an environment in which a core group of teachers and other adults within the school knows the needs, interests, and aspirations of each ninth-grade student well, closely monitors each student's progress, and provides the academic and other support each student needs to transition to high school and succeed. Student enrollment in (or exclusion from) a freshman academy is not based on skills, testing, or measures other than ninth-grade status and student/parent choice or random assignment. A freshman academy differs from a simple grouping of ninth-graders in that it incorporates programs or strategies designed to ease the transition for students from the eighth grade to high school. A freshman academy may include ninth-grade students exclusively or it may be part of an SLC, sometimes called a “house,” that groups together a small number of ninth- through twelfth-grade students for instruction by the same core group of academic teachers. The term freshman academy in this situation refers only to the ninth-grade students in the house.

Large High School means an entity that includes grades 11 and 12 and has an enrollment of 1,000 or more students in grades 9 and above.

Research evaluation means the study of the effectiveness of supplemental reading programs that are implemented within freshman academies and that is being sponsored by the Department of Education and is described elsewhere in this notice.

Smaller Learning Community (or SLC) means an environment in which a core group of teachers and other adults within the school knows the needs, interests, and aspirations of each student well, closely monitors each student's progress, and provides the academic and other support each student needs to succeed.

Striving Ninth-Grade Readers means those students who are enrolled in the ninth grade and who read English at a level that is two to four grades below their current grade level, as determined by an eighth-grade standardized test of reading. The term includes those students with limited English proficiency who are enrolled in ninth grade, who read English at a level that is two to four grades below their current grade level, and who took the State's eighth-grade standardized reading or language arts assessment in English with minimal accommodations (defined as having the test directions read to them orally, having access during the test to a dictionary, and/or being able to take the test without a time limit).

Supplemental Reading Program means a comprehensive, full-year, classroom-based program that provides instruction for students reading two to four years below their grade level as a supplement to regular English language arts classes. After-school or summer enrichment classes are not considered to be supplemental reading programs. English language arts classes that are targeted toward struggling readers, but are not supplemental to another regular English language arts class, are not considered to be supplemental reading programs.

Selection Criteria

The following selection criteria will be used to evaluate applications for new grants under this special competition. We may apply these criteria in any year in which we conduct an SLC supplemental reading program competition.

Need for Participation in the Supplemental Reading Program

In determining the need for participation in the supplemental reading program, we will consider the extent to which the applicant will—

(1) Involve schools that have the greatest need for assistance as indicated by such factors as: Student achievement scores in English or language arts; student achievement scores in other core curriculum areas; enrollment; attendance and dropout rates; incidents of violence, drug and alcohol use, and disciplinary actions; percentage of students who have limited English proficiency, come from low-income families, or are otherwise disadvantaged; or other need factors as identified by the applicant; and

(2) Address the needs it has identified in accordance with paragraph (1) through participation in the supplemental reading program activities.

Foundation for Implementation of the Supplemental Reading Program

In determining the foundation for implementation of the supplemental reading program, we will consider the extent to which—

(1) Administrators, teachers, and other school staff within each school support the school's proposed involvement in the supplemental reading program and have been and will continue to be involved in its planning, development, and implementation, including, particularly, those teachers who will be directly affected by the proposed project, as evidenced in part by a letter of interest from the language arts or social studies teacher who will teach the supplemental reading program;

(2) Parents, students, and other community stakeholders support the proposed implementation of the supplemental reading program and have been and will continue to be involved in its planning, development, and implementation;

(3) The proposed implementation of the supplemental reading program is consistent with, and will advance, State and local initiatives to increase student achievement and narrow gaps in achievement between all students and students who are economically disadvantaged, students from major racial and ethnic groups, students with disabilities, or students with limited English proficiency;

(4) The applicant demonstrates that it has carried out sufficient planning and preparatory activities, outreach, and consultation with teachers, administrators, and other stakeholders to enable it to participate effectively in the supplemental reading program at the beginning of the 2005-6 school year;

(5) The applicant articulates a plan for using information gathered from the evaluation of the supplemental reading program to inform decision and policymaking at the LEA and school levels; and

(6) The applicant, in its description of literacy classes and/or other activities (implemented, within the last two years, at each of the high schools on behalf of which the LEA is applying under this competition) that were designed to promote the reading achievement of striving ninth-grade readers, demonstrates that those activities will not affect the outcomes of the research evaluation, and that the ninth-grade teachers in each school have not previously received professional development in either the Strategic Instruction Model, Reading Apprenticeship Academic Literacy, or a similar supplemental reading program.

Quality of the Project Design for the Broader SLC Project

In determining the quality of the project design for the broader SLC project we will consider the extent to which—

(1) The applicant demonstrates a foundation for implementing the broader SLC project, creating or expanding SLC structures or strategies in the school environment, including demonstrating—

(A) That it has the support and involvement of administrators, teachers, and other school staff;

(B) That it has the support of parents, students, and other community stakeholders;

(C) The degree to which the proposed broader SLC project is consistent with, and will advance, State and local initiatives to increase student achievement and narrow gaps in achievement; and

(D) The degree to which the applicant has carried out sufficient planning and preparatory activities to enable it to implement the proposed broader SLC project at the beginning of the 2005-6 school year;

(2) The applicant will implement or expand strategies, new organizational structures, or other changes in practice that are likely to create an environment in which a core group of teachers and other adults within the school know the needs, interests, and aspirations of each student well, closely monitor each student's progress, and provide the academic and other support each student needs to succeed; and

(3) The applicant will provide high-quality professional development throughout the project period that advances the understanding of teachers, administrators, and other school staff of effective, research-based instructional strategies for improving the academic achievement of students, including, particularly, students with academic skills that are significantly below grade level; and provide the knowledge and skills they need to participate effectively in the development, expansion, or implementation of a SLC.

Quality of the Management Plan

In determining the quality of the management plan for the proposed project, we consider the following factors—

(1) The adequacy of the proposed management plan to allow the participating schools to implement effectively the research evaluation and broader SLC project on time and within budget, including clearly defined responsibilities and detailed timelines and milestones for accomplishing project tasks;

(2) The extent to which time commitments of the project director and other key personnel, including the teachers who will be responsible for providing instruction in the supplemental reading program, are appropriate and adequate to implement effectively the supplemental reading program and broader SLC project;

(3) The qualifications, including relevant training and experience, of the project director, program coordinator, and other key personnel who will be responsible for implementing the broader SLC project;

(4) The qualifications, including relevant training and years of experience, of the teachers who will be responsible for providing instruction in the supplemental reading program, as indicated by a resume and signed letter of interest; and

(5) The adequacy of resources, including the extent to which the budget is adequate, the extent to which the budget provides sufficient funds for the implementation of the supplemental reading program, and the extent to which costs are directly related to the objectives and design of the research evaluation and broader SLC activities.

Quality of the Broader SLC Project Evaluation

In determining the quality of the broader SLC project evaluation to be conducted on the applicant's behalf by an independent, third-party evaluator, we consider the following factors—

(1) The extent to which the methods of evaluation are thorough, feasible, and appropriate to the goals, objectives, and outcomes of the proposed broader SLC project;

(2) The extent to which the evaluation will collect and annually report accurate, valid, and reliable data for each of the required performance indicators, including student achievement data that are disaggregated for economically disadvantaged students, students from major racial and ethnic groups, students with disabilities, and students with limited English proficiency;

(3) The extent to which the evaluation will collect additional qualitative and quantitative data that will be useful in assessing the success and progress of implementation, including, at a minimum, accurate, valid, and reliable data for the additional performance indicators identified by the applicant in the application;

(4) The extent to which the methods of evaluation will provide timely and regular feedback to the LEA and the school on the success and progress of implementation and will identify areas for needed improvement; and

(5) The qualifications and relevant training and experience of the independent evaluator.

Executive Order 12866

This notice of final priorities, requirements, definitions, and selection criteria has been reviewed in accordance with Executive Order 12866. Under the terms of the order, we have assessed the potential costs and benefits of this regulatory action.

The potential costs associated with the notice of final priorities, requirements, definitions, and selection criteria are those resulting from statutory requirements and those we have determined as necessary for administering this program effectively and efficiently.

In assessing the potential costs and benefits—both quantitative and qualitative—of this notice of final priorities, requirements, definitions, and selection criteria, we have determined that the benefits of the final priorities, requirements, definitions, and selection criteria justify the costs.

We have also determined that this regulatory action does not unduly interfere with State, local, and tribal governments in the exercise of their governmental functions.

We summarized the costs and benefits of this regulatory action in the NPP.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.215L, Smaller Learning Communities Program.)

Program Authority: 20 U.S.C. 7249.

Dated: March 25, 2005.
Susan Sclafani,
Assistant Secretary for Vocational and Adult Education.

[FR Doc. 05-6316 Filed 3-29-05; 8:45 am]

BILLING CODE 4000-01-P